NATIONAL SCIENCE FOUNDATION

Advisory Panel for Biological Infrastructure; Notice of Meeting

In accordance with the Federal Advisory Committee Act (Pub. L. 92-463, as amended), the National Science Foundation announces the following meeting:

Name: Advisory Panel for Biological Infrastructure (1215).

Date & Time: March 15, 2001, 1 pm-5 pm; March 16, 2001, 8 am-12 pm.

Place: Room 130, National Science Foundation, 4201 Wilson Blvd., Arlington, VA.

Type of Meeting: Closed.

Contact Person: Ms. Carter Kinsey, Program Manager, Minority Postdoctoral Research Fellowship Program, Division of Biological Infrastructure, Room 615, NSF, 4201 Wilson Boulevard, Arlington, VA 22230, (703) 292-8470.

Purpose of Meeting: To provide advice and recommendations concerning proposals submitted to the NSF for financial support.

Agenda: To review and evaluate Minority Postdoctoral Research Fellowship Program proposals as part of the selection process for awards.

Reason for Closing: The proposals being reviewed include information of a proprietary or confidential nature, including technical information; financial data, such as salaries; and personal information concerning individuals associated with the proposals. These matters are exempt under 5 U.S.C. 552b(c)(4) and (6) of the Government Sunshine Act.

Dated: February 21, 2001.
Susanne Bolton,
Committee Management Officer.

[FR Doc. 01-4717 Filed 2-26-01; 8:45 am]

BILLING CODE 7555-01-M